INTERNATIONAL TRADE COMMISSION

[Investigation No. 337-TA-1417]

Certain Hydrodermabrasion Systems and Components Thereof III; Notice of a Commission Determination Not To Review an Initial Determination Terminating the Investigation as to the Remaining Active Respondents Based on Settlement; Request for Written Submissions on Remedy, the Public Interest, and Bonding

AGENCY: U.S. International Trade Commission.

ACTION: Notice.

SUMMARY: Notice is hereby given that the U.S. International Trade Commission (“Commission”) has determined not to review an initial determination (“ID”) (Order No. 16) issued by the presiding administrative law judge (“ALJ”) terminating the investigation as to the remaining active respondents based on settlement, and to request written submissions from the parties, interested government agencies, and interested persons, under the schedule set forth below, on remedy, the public interest, and bonding.

FOR FURTHER INFORMATION CONTACT: Namo Kim, Esq., Office of the General Counsel, U.S. International Trade Commission, 500 E Street SW, Washington, DC 20436, telephone (202) 205-3459. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on September 13, 2024, based on a complaint, as supplemented, filed by HydraFacial LLC f/k/a Edge Systems LLC of Long Beach, California (“HydraFacial”). 89 FR 74995-96 (September 13, 2024). The complaint, as supplemented, alleges violations of section 337 of the Tariff Act of 1930, as amended, 19 U.S.C. 1337 (“section 337”), based upon the importation into the United States, the sale for importation, and the sale within the United States after importation of certain hydrodermabrasion systems and components thereof by reason of the infringement of certain claims of U.S. Patent No. 11,446,477 (“the '477 patent”). Id. The complaint also asserts that a domestic industry exists.

The Commission's notice of investigation names as respondents: Luvo Medical Technologies Inc. of Ontario, Canada; Clarion Medical Technologies, Inc. of Ontario, Canada; Healthcare Markets, Inc. d/b/a Powered by MRP of Park City, Utah; Medical Purchasing Resource, LLC of Little Elm, Texas; Bio-Infusions USA Inc. of Seminole, Florida; MIRAmedtech UG of Neulingen, Germany; eMIRAmed USA, LLC of Irvine, California; and MIRAmedtech SP. Z.O.O. of Warsaw, Poland. Id. The Office of Unfair Import Investigations is not participating in this investigation. Id.

On January 2, 2025, the Commission found respondent Medical Purchasing Resource, LLC in default. Order No. 7 (Dec. 9, 2024), unreviewed by Comm'n Notice (Jan. 2, 2025).

On February 6, 2025, the Commission found respondents Bio-Infusions USA Inc., MIRAmedtech UG, eMIRAmed USA, LLC, and MIRAmedtech SP. Z.O.O. in default. Order No. 13 (Jan. 17, 2025), unreviewed by Comm'n Notice (Feb. 6, 2025).

On March 31, 2025, complainant HydraFacial and respondents Clarion Medical Technologies, Inc., Luvo Medical Technologies, Inc., and Healthcare Markets, Inc. d/b/a Powered by MRP filed a joint motion to terminate the investigation as to those respondents based on a settlement agreement. The parties stated that granting this joint motion to terminate “is in the interest of the public and administrative economy.” Joint Motion at 2-3.

On April 4, 2025, the ALJ issued the subject ID (Order No. 16) pursuant to Commission Rule 210.21(a)(2) and (b), 19 CFR 210. 21(a)(2) and (b), terminating the investigation as to Clarion Medical Technologies, Inc., Luvo Medical Technologies, Inc., and Healthcare Markets, Inc. d/b/a Powered by MRP based on a settlement agreement. The ID finds that the motion complies with Commission rules, and that “termination of this investigation will not adversely affect the public interest.” ID at 2-3.

On April 7, 2025, the ALJ issued an order (Order No. 18) stating that all respondents in the investigation have been either terminated based on settlement or found in default, and that HydraFacial confirmed during a case management conference that it will request relief against the defaulting respondents. In particular, HydraFacial stated it is not seeking issuance of a general exclusion order. The parties also confirmed that any outstanding motions for summary determination may be denied as moot. The order denies those motions as moot, which resolves all remaining issues pending before the ALJ, and certifies the record to the Commission.

No party filed a petition for review of the subject ID (Order No. 16).

The Commission has determined not to review the subject ID. The investigation is terminated as to Clarion Medical Technologies, Inc., Luvo Medical Technologies, Inc., and Healthcare Markets, Inc. d/b/a Powered by MRP. As noted above, the Commission has previously found the remaining respondents, Medical Purchasing Resource, LLC, Bio-Infusions USA Inc., MIRAmedtech UG, eMIRAmed USA, LLC, and MIRAmedtech SP. Z.O.O., to be in default.

In connection with the final disposition of this investigation, the statute authorizes issuance of, inter alia, (1) an exclusion order that could result in the exclusion of the subject articles from entry into the United States; and/or (2) cease and desist orders that could result in the respondents being required to cease and desist from engaging in unfair acts in the importation and sale of such articles. Accordingly, the Commission is interested in receiving written submissions that address the form of remedy, if any, that should be ordered. If a party seeks exclusion of an article from entry into the United States for purposes other than entry for consumption, the party should so indicate and provide information establishing that activities involving other types of entry either are adversely affecting it or likely to do so. For background, see Certain Devices for Connecting Computers via Telephone Lines, Inv. No. 337-TA-360, USITC Pub. No. 2843, Comm'n Op. at 7-10 (Dec. 1994).

The statute requires the Commission to consider the effects of that remedy upon the public interest. The public interest factors the Commission will consider include the effect that an exclusion order and cease and desist orders would have on: (1) the public health and welfare, (2) competitive conditions in the U.S. economy, (3) U.S. production of articles that are like or directly competitive with those that are subject to investigation, and (4) U.S. consumers. The Commission is therefore interested in receiving written submissions that address the aforementioned public interest factors in the context of this investigation.

If the Commission orders some form of remedy, the U.S. Trade Representative, as delegated by the President, has 60 days to approve, disapprove, or take no action on the Commission's determination. See Presidential Memorandum of July 21, 2005, 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: Parties to the investigation, interested government agencies, and any other interested parties are encouraged to file written submissions on the issues of remedy, the public interest, and bonding. In the initial submission, HydraFacial is also requested to identify the remedy sought and submit proposed remedial orders for the Commission's consideration. HydraFacial is further requested to state the date that the '477 patent expires, to provide the HTSUS subheadings under which the accused products are imported, and to supply the identification information for all known importers of the products at issue in this investigation. The initial written submissions and proposed remedial orders must be filed no later than close of business on May 2, 2025. Reply submissions must be filed no later than the close of business on May 9, 2025. No further submissions on any of these issues will be permitted unless otherwise ordered by the Commission.

Persons filing written submissions must file the original document electronically on or before the deadlines stated above pursuant to 19 CFR 210.4(f). Submissions should refer to the investigation number (“Inv. No. 337-TA-1417”) in a prominent place on the cover page and/or the first page. (See Handbook for Electronic Filing Procedures, https://www.usitc.gov/documents/handbook_on_filing_procedures.pdf). Persons with questions regarding filing should contact the Secretary, (202) 205-2000.

Any person desiring to submit a document to the Commission in confidence must request confidential treatment by marking each document with a header indicating that the document contains confidential information. This marking will be deemed to satisfy the request procedure set forth in Rules 201.6(b) and 210.5(e)(2) (19 CFR 201.6(b) & 210.5(e)(2)). Documents for which confidential treatment by the Commission is properly sought will be treated accordingly. Any non-party wishing to submit comments containing confidential information must serve those comments on the parties to the investigation pursuant to the applicable Administrative Protective Order. A redacted non-confidential version of the document must also be filed with the Commission and served on any parties to the investigation within two business days of any confidential filing. All information, including confidential business information and documents for which confidential treatment is properly sought, submitted to the Commission for purposes of this investigation may be disclosed to and used: (i) by the Commission, its employees and Offices, and contract personnel (a) for developing or maintaining the records of this or a related proceeding, or (b) in internal investigations, audits, reviews, and evaluations relating to the programs, personnel, and operations of the Commission including under 5 U.S.C. appendix 3; or (ii) by U.S. government employees and contract personnel, solely for cybersecurity purposes. All contract personnel will sign appropriate nondisclosure agreements. All nonconfidential written submissions will be available for public inspection on EDIS.

The Commission vote for this determination took place on April 18, 2025.

The authority for the Commission's determination is contained in section 337 of the Tariff Act of 1930, as amended (19 U.S.C. 1337), and in Part 210 of the Commission's Rules of Practice and Procedure (19 CFR part 210).

By order of the Commission.
Issued: April 21, 2025.
Lisa Barton,
Secretary to the Commission.

[FR Doc. 2025-07082 Filed 4-23-25; 8:45 am]

BILLING CODE 7020-02-P